DEPARTMENT OF HOMELAND SECURITY

Coast Guard

33 CFR Part 117

[Docket No. USCG-2012-0047]

Drawbridge Operation Regulation; Snake Creek, Islamorada, FL

AGENCY: Coast Guard, DHS.

ACTION: Notice of temporary deviation from regulations.

SUMMARY: The Commander, Seventh Coast Guard District, has issued a temporary deviation from the regulation governing the operation of Snake Creek Bridge, mile 0.5, across Snake Creek, in Islamorada, Florida. The regulation is set forth in 33 CFR 117.331. The deviation is necessary due to the high volume of vehicle traffic anticipated during the Annual Nautical Flea Market, which will be held in Islamorada, Florida on February 25, 2012 and February 26, 2012. The deviation will result in the bridge only opening to navigation at the top of the hour from 8 a.m. until 5 p.m. daily on February 25, 2012 and February 26, 2012. At all other times on February 25, 2012 and February 26, 2012, the bridge will open on demand.

DATES: This deviation is effective from 8 a.m. on February 25, 2012 through 5 p.m. on February 26, 2012.

ADDRESSES: Documents mentioned in this preamble as being available in the docket are part of docket USCG-2012-0047 and are available online by going to http://www.regulations.gov, inserting USCG-2012-0047 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Jessica Hopkins, Seventh District Bridge Branch, Coast Guard; telephone (305) 415-6946, email Jessica.R.Hopkins@uscg.mil. If you have questions on viewing the docket, call Renee V. Wright, Program Manager, Docket Operations, telephone (202) 366-9826.

SUPPLEMENTARY INFORMATION: The Monroe County Sheriff's Office has requested a temporary modification to the operating schedule of Snake Creek Bridge in Islamorada, Florida. This deviation will result in the bridge opening only on the top of the hour from 8 a.m. to 5 p.m. daily on February 25, 2012 and February 26, 2012 during the Annual Nautical Flea Market. The Annual Nautical Flea Market generates a high volume of vehicle traffic. Opening this bridge on demand in past years during the event has resulted in significant vehicle congestion. By opening the bridge only on the top of the hour vehicular congestion will be reduced.

The vertical clearance of Snake Creek Bridge, across Snake Creek is 27 feet. Vessels with a clearance of less than 27 feet may pass underneath the bridge while it is in the closed position. The normal operating schedule for Snake Creek Bridge is set forth in 33 CFR 117.331. 33 CFR 117.331 requires the bridge to open on signal; except that from 8 a.m. to 4 p.m., the bridge need only open on the hour and half-hour. As a result of this temporary deviation, Snake Creek Bridge will only open to navigation on the top of the hour from 8 a.m. until 5 p.m. daily on February 25, 2012 and February 26, 2012. At all other times on February 25, 2012 and February 26, 2012, the bridge will open on signal. However, the drawspan will open as soon as possible for the passage of tugs with tows, vessels in distress, and Public vessels of the United States.

In accordance with 33 CFR 117.35(e), the drawbridge must return to its regular operating schedule immediately at the end of the designated time period. This deviation from the operating regulation is authorized under 33 CFR 117.35.

Dated: February 1, 2012.
B.L. Dragon,
Bridge Program Director, Seventh Coast Guard District.

[FR Doc. 2012-4392 Filed 2-22-12; 11:15 am]

BILLING CODE 9110-04-P